INTERNATIONAL TRADE COMMISSION

[Investigation No. 731-TA-1534 (Final)]

Methionine From France

Determination

On the basis of the record ¹ developed in the subject investigation, the United States International Trade Commission (“Commission”) determines, pursuant to the Tariff Act of 1930 (“the Act”), that an industry in the United States is materially injured by reason of imports of methionine from France, provided for in subheadings 2930.40.00 and 2930.90.46 of the Harmonized Tariff Schedule of the United States, that have been found by the U.S. Department of Commerce (“Commerce”) to be sold in the United States at less than fair value (“LTFV”).2 3

¹ The record is defined in § 207.2(f) of the Commission's Rules of Practice and Procedure (19 CFR 207.2(f)).

² 86 FR 26697 (May 17, 2021).

³ The Commission also finds that imports subject to Commerce's affirmative critical circumstances determination are not likely to undermine seriously the remedial effect of the antidumping duty order on France.

Background

The Commission instituted this investigation effective July 29, 2020, following receipt of a petition filed with the Commission and Commerce by Novus International, Inc., St. Charles, Missouri. The Commission scheduled the final phase of the investigation following notification of a preliminary determination by Commerce that imports of methionine from France were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of March 9, 2021 (86 FR 13585). In light of the restrictions on access to the Commission building due to the COVID-19 pandemic, the Commission conducted its hearing by video conference on May 11, 2021. All persons who requested the opportunity were permitted to participate.

The Commission made this determination pursuant to § 735(b) of the Act (19 U.S.C. 1673d(b)). It completed and filed its determination in this investigation on June 30, 2021. The views of the Commission are contained in USITC Publication 5206 (June 2021), entitled Methionine from France: Investigation No. 731-TA-1534 (Final).

By order of the Commission.
Issued: June 30, 2021.
Lisa Barton,
Secretary to the Commission.

[FR Doc. 2021-14428 Filed 7-6-21; 8:45 am]

BILLING CODE 7020-02-P